DEPARTMENT OF DEFENSE

Department of the Air Force

[Docket ID: USAF-2013-0020]

Proposed Collection; Comment Request

AGENCY: Headquarter Air Force Special Operations Command (AFSOC) Special Activities, DoD.

ACTION: Notice.

In compliance with Section 3506(c)(2)(A) of the Paperwork Reduction Act of 1995, the Headquarter Air Force Special Operations Command Special Activities announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 16, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Headquarter Air Force Special Operations Command Special Activities Office, 100 Bartley St, Suite 107A, Hurlburt Field FL, 32544-5242, or call (850) 884-3951.

Title; Associated Form; and OMB Number: Air Force Special Operations Command Focal Point Access Control Lists; AF Form 1522; OMB Number 0701-TBD.

Needs and Uses: The information collection requirement is necessary to obtain and record individuals' personal identifiable information when those individuals are granted access to sensitive “need to know” material, known as Alternative Compensatory Control Measures (ACCMs). Personal information collected will include names, Social Security Numbers, DoD ID Numbers, rank/grade/position, office symbol and contact phone numbers. The respondent information will form an online database that will be used to verify access to ACCMs throughout the world for AFSOC active duty, civilian employees, and contractors. Proper verification prevents unintentional compromise of classified material. The AF Form 1522 is not used to collect respondent information, but serves to confirm the respondents have received their ACCM indoctrination. This database will be taken offline and transferred to the Joint Staff when no longer used by AFSOC.

Affected Public: Individuals or households.

Annual Burden Hours: 15.

Number of Respondents: 914.

Responses per Respondent: 1.

Average Burden per Response: 1 minute.

Frequency: On occasion.

SUPPLEMENTARY INFORMATION:

Summary of Information Collection

Respondents are military contractors requiring access to ACCM material to accomplish their duties or fulfill their military contracts. All personnel information is sent by unit/company security managers via encrypted email or Joint Personnel Adjudication System to the ACCM access database managers. Social Security and DoD ID Numbers are required to provide unique identifiers in the database and confirm individuals' security clearances. Only the minimum number of people necessary for access management will read or write to the database. By signing the requisite form, individuals confirm that they have received ACCM indoctrination and their information can be entered into the AFCOC ACCM online database. Confirming ACCM access levels is critical to prevent the inadvertent disclosure of classified material.

Dated: May 8, 2013.
Aaron Siegel,
Alternate OSD Federal Register Liaison Officer, Department of Defense.

[FR Doc. 2013-11818 Filed 5-16-13; 8:45 am]

BILLING CODE 5001-06-P